DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 18, 2016.

Address Comments to Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(6); 49 CFR 1.53(b)).

Issued in Washington, DC, on February 16, 2016.
Don Burger,
Chief, General Approvals and Permits.

Special Permits Data
Application No. | Docket No. | Applicant | Regulation(s) affected | Nature of the special permits thereof
20085-N |  | EQ INDUSTRIAL SERVICES, INC. | 173.308(a)(3), 173.308(a)(4), 173.21(h)(2)(i) | To authorize the transportation in commerce of untested and unapproved lighters for the purpose of disposal. (mode 1).
20118-N |  | AMERICASE, INC. | 172.500, 172.200, 172.300, 172.600, 172.700(a), 173.185(f), 172.400 | To authorize the manufacture, mark, sale and use of specially-designed packaging used for the transportation in commerce of damaged or recalled lithium ion cells, batteries, and lithium cells and batteries. (mode 1, 3).
20157-N |  | KIMBER MFG., INC. | Parts 171-180 | To authorize the transportation in commerce of certain pyrotechnic articles as not subject to the requirements of the Hazardous Materials Regulations. (modes 1, 4).
20158-N |  | PALL CORPORATION | 173.202, 173.242 | To authorize the transportation in commerce of an isopropanol solution in non-specification packaging. (modes 1, 4).
20159-N |  | ELKHORN AVIATION, INC. | 175.30(a)(1), 172.101 Column (9B), 172.200, 172.300, 173.1, 173.27(b)(2) | To authorize the transportation in commerce of certain hazardous materials by 14 CFR part 133 Rotorcraft External Load Operations transporting hazardous materials attached to or suspended from an aircraft, in remote areas of the U.S. only, without being subject to certain hazard communication requirements, quantity limitations and certain loading and stowage requirements. (mode 4).
20181-N |  | QUANTUM FUEL SYSTEMS TECHNOLOGIES WORLDWIDE, INC. | 173.302a | To authorize the manufacture, mark, sale and use of a non-DOT specification fully wrapped fiber reinforced composite gas cylinder with a non-load sharing plastic liner that meets ISO 11119-3: 2013, except as specified. (mode 1).
20182-N |  | A123 SYSTEMS LLC | 173.185(a)(1) | To authorize the transportation in commerce of lithium batteries tested in accordance with the UN Manual of Tests and Criteria Sixth Revision. (modes 1,2,3,4,5).
20209-N |  | BREN-TRONICS, INC. | 172.102(c)(2), Special Provision A54, 173.185(b)(5) | To authorize the transportation in commerce of lithium ion batteries in strong outer packagings and with a net weight of greater than 35 kg when Transported aboard cargo aircraft. (mode 4).

[FR Doc. 2016-05689 Filed 3-16-16; 8:45 am]

BILLING CODE 4909-60-M